DEPARTMENT OF ENERGY

Federal Energy Regulatory Commission

Combined Notice of Filings

Take notice that the Commission has received the following Natural Gas Pipeline Rate and Refund Report filings:

Filings Instituting Proceedings

Docket Number: PR21-60-000.

Applicants: Hope Gas, Inc.

Description: Submits tariff filing per 284.123(b),(e)+(g): HGI-2020 WV PSC Base Rate Case to be effective 7/28/2021.

Filed Date: 8/12/2021.

Accession Number: 20210812-5018.

Comments Due: 9/2/2021.

Docket Number: RP21-901-001.

Applicants: Fieldwood Energy LLC, Fieldwood Energy Offshore LLC, Fieldwood Energy SP LLC, Mako Buyer LLC.

Description: Revision to Joint Petition of Fieldwood Energy LLC, et. al. for Limited Waivers and Request for Expedited Action and Shortened Comment Period.

Filed Date: 8/12/21.

Accession Number: 20210812-5161.

Comments Due: 5 pm ET 8/24/21.

Docket Numbers: RP21-1036-000.

Description: § 4(d) Rate Filing: Negotiated Rate Agreements Filing—Woodriver Energy LLC to be effective 8/17/2021.

Filed Date: 8/17/21.

Accession Number: 20210817-5014.

Comment Date: 5 pm ET 8/30/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 18, 2021.
Debbie-Anne A. Reese,
Deputy Secretary.

[FR Doc. 2021-18215 Filed 8-24-21; 8:45 am]

BILLING CODE 6717-01-P